DEPARTMENT OF COMMERCE

Economic Development Administration

[Docket No. 001103311-0311-01]

RIN 0610-ZA17

Economic Adjustment Assistance—Availability of Funds for Hurricane Floyd and Other Disasters

AGENCY: Economic Development Administration (EDA), Department of Commerce (DoC).

ACTION: Funding notice.

SUMMARY: The Economic Development Administration (EDA) announces the availability of $55.8 million for economic adjustment assistance to support disaster recovery programs designed to assist affected states and local communities recover from the consequences of Hurricane Floyd and other recent disasters. Eligible activities include planning assistance, construction grants, and capitalization of revolving loan funds (technical assistance, if incidental, may be appropriate) to assist in the recovery efforts of communities impacted by Hurricane Floyd and other recent disasters. Of the appropriated funds, $49.9 million (which includes $30 million for New Jersey) will be available to assist communities impacted by Hurricane Floyd. (The most serious economic impacts of the hurricane were concentrated in the States of North Carolina, New Jersey and Virginia.) Funds in the amount of $5.9 million will be available to assist communities impacted by other recent disasters. EDA will consider projects dealing with local, regional or statewide issues that are related to disaster response and recovery from Hurricane Floyd as well as such projects responding to other recent disasters.

DATES: Proposals and applications in response to the Hurricane Floyd disaster will be accepted on a continuous basis until the funds have been expended. Proposals for other recent disasters must be received by May 21, 2001 to be considered for funding.

ADDRESSES: Addresses for EDA's six regional offices and Economic Development Representatives (EDRs) for the states of New Jersey, North Carolina and Virginia are provided at the end of this notice.

FOR FURTHER INFORMATION: Interested parties should contact the appropriate regional office or EDR as shown at the end of this notice.

SUPPLEMENTARY INFORMATION:

I. Economic Adjustment Assistance

(Catalog of Federal Domestic Assistance (CFDA) No.11.307)

II. Funding Availability

Funds in the amount of $55.8 million are available and shall remain available until expended. These funds are provided under the Military Construction Appropriations Act, 2001; FY 2000 Supplemental Appropriations (PL 106-246), July 13, 2000, to be transferred to the Department of Commerce from the Department of Agriculture. Such funds will be administered under Section 209 of the Public Works and Economic Development Act of 1965, as amended (PWEDA), unless otherwise determined by the Assistant Secretary.

III. Eligibility

Information on eligibility requirements for applicants and areas can be found in EDA's regulation at 13 CFR Chapter III and EDA's NOFA of January 24, 2000, which describes area “Special Need” criteria.

Area Eligibility: 13 CFR 301.2(h) provides that EDA describes in a NOFA, special needs criteria under 13 CFR 301.2(b)(3). In EDA's NOFA of January 24, 2000, EDA describes, among other special needs criteria, the following:

“Natural or other major disasters or emergencies. An area that has received one of the following disaster declarations is eligible for EDA assistance for a period of 18 months after the date of declaration, unless further extended by the Assistant Secretary:

1. A Presidential Disaster Declaration authorizing FEMA Public Assistance pursuant to the Robert T. Stafford Disaster Relief and Emergency Assistance Act, as amended (Public Law 93-288, 42 U.S.C. 5121 et seq.) * * *” (65 FR 3763 at 3766, January 24, 2000).

Given the lapse of time from the Presidential disaster declaration for Hurricane Floyd and this notice of availability of funds, the time period for area eligibility is hereby extended by the Assistant Secretary beyond the 18-month period to September 30, 2001, for Presidentially declared Hurricane Floyd disaster areas.

Area eligibility is reviewed at the time that EDA invites an application under 13 CFR 308 and is based on the most recent Federal data available for the area where the project will be located or where the substantial direct benefits will be received. If no Federal data are available to determine eligibility, an applicant must submit to EDA the most recent data available for the area through the government of the State in which the area is located, i.e., conducted by or at the direction of the State government. Project areas must be eligible on the date of submission of the application. In the case of any application received by EDA more than six months prior to the time of award, EDA will reevaluate the project to determine that the area remains eligible for EDA assistance before making the award.

EDA will reject any documentation of eligibility that it determines is inaccurate.

IV. Grant Rates

Pursuant to EDA's regulations at 13 CFR 301.4(b) and 301.4(f), projects under part 308 located in Presidentially-declared disaster areas for which EDA invites an application for assistance under a supplemental appropriation, within 18 months of declaration, qualify for a higher grant rate of up to 80%. Projects that respond to other recent disasters may qualify for a maximum grant rate of 80%. There is no provision in EDA's regulations at 13 CFR 301.4(b)(5), to extend the 18-month maximum grant rate eligibility period. After expiration of the special eligibility, areas will revert to the grant rates for which they are eligible as otherwise prescribed by EDA's regulations at 13 CFR 301.4(b).

V. Selection Process

EDA will review proposals to evaluate eligibility, evaluation criteria, and funding priorities before inviting a full application for final funding consideration. It is anticipated that proposals will exceed the amount of funding available. Interested parties should submit proposals directly to the appropriate EDR or to the regional office listed at the end of this notice, using the standard preapplication form for EDA assistance (ED-900P, OMB Control No. 0610-0094).

EDA will evaluate project proposals in accordance with as appropriate, 13 CFR part 304, and 13 CFR 308.4 (65 FR 2530 at 2532, January 18, 2000), and the criteria will be approximately of equal importance.

Proposals under this funding announcement must demonstrate how the EDA assistance will help the eligible area recover from the economic adjustment problems caused by Hurricane Floyd or other recent disasters. Proposals for construction and RLFs grants must also demonstrate that the request for assistance has been preceded by sound planning, consistent with EDA regulations at 13 CFR 301.3.

In meeting EDA requirements for a strategy or Comprehensive Economic Development Strategy (CEDS), EDA may accept for example: a State Emergency Recovery Plan, or the product of an equivalent state or local strategic economic recovery planning process with short-term and long-term goals.

Given the limited funds available from this appropriation, applicants must be able to demonstrate need based on physical damage or economic impact resulting from the disaster.

After consideration under EDA's evaluation criteria, EDA will consider the following funding priorities which will be the basis for selecting applications to be funded under this Notice. Priority numbers (1) and (2) are roughly equivalent and more important than the others. The funding priorities are as follows:

1. Projects located in areas that suffered the highest levels of economic injury as a result of the disaster, as compared to other disaster areas.

2. Projects located in disaster impacted areas that had previously been experiencing high levels of economic distress.

3. Projects which leverage EDA funds with state, local, private, and other Federal assistance efforts.

4. Projects that restore, upgrade or enhance the reliability of critical infrastructure/public facilities to current building, environmental, and safety standards or codes, and are essential to stabilizing the economic base of the disaster area.

5. Projects that enhance/stimulate sustainable economic development and/or otherwise mitigate the physical and/or economic dislocation that could be caused by recurring future disasters.

6. Projects that assist the restoration of businesses, stimulate the development of new businesses and accelerate the development of new job opportunities for dislocated individuals within the affected areas.

7. Projects that enhance opportunities for economic diversification.

VI. Program Tools

Planning—There should be a clear and documented nexus between the project and the disaster. Planning projects should concentrate on early disaster economic recovery goals in accordance with EDA's CEDS process [requiring incidental technical assistance, as appropriate].

Construction—In addition to the real property requirements at 13 CFR 314.7, applicants are expected to submit satisfactory evidence of rights of entry assuring prompt access to project property at time of award in those cases where applicants do not hold title to all real property required for the projects at time of application. Where appropriate, incidental on-site technical assistance should be incorporated into construction projects for project administration to successfully meet the terms and conditions of the grant. The objective is to accomplish project implementation quickly and efficiently, so that benefits of the recovery activity take effect as soon as possible.

Revolving Loan Fund (RLF)—EDA may consider providing RLF assistance to: (1) Assist small and emerging businesses and to (2) meet local infrastructure needs. EDA RLF assistance will be coordinated to avoid duplication of other available federal assistance. RLF grantees must incorporate an “exit strategy” acceptable to EDA for the continued use of the RLFs after the need for disaster recovery has abated.

Where grant funds are used to support RLFs, it is expected that priority consideration will be given to eligible borrowers who were impacted by the disaster and/or other borrowers who can contribute to the economic stabilization of the area after the disaster, particularly through the creation of job opportunities that may be less vulnerable to future disasters.

VII. Other Information and Requirements

EDA regulations at 13 CFR Chapter III and 65 FR 2530, January 18, 2000, are available from EDA offices listed in section VIII. EDA Contact Information and from the EDA Web site at www.doc.gov/eda.

Certain Departmental and other requirements are noted below. Additional information is available through links to EDA's web site at www.doc.gov/eda or from the appropriate EDA offices listed in section VIII. EDA Contact Information.

A. Notwithstanding any other provision of law, no person is required to respond to, nor shall a person be subject to a penalty for failure to comply with a collection of information subject to the requirements of the Paperwork Reduction Act (PRA) unless that collection of information displays a currently valid Office of Management and Budget (OMB) control number. This notice involves a collection of information requirement subject to the provisions of the PRA and has been approved by OMB under Control Number 0610-0094.

B. All primary applicants must submit a completed Form CD-511, “Certifications Regarding Debarment, Suspension and Other Responsibility Matters; Drug-Free Workplace Requirements and Lobbying,” and the following explanations are hereby provided: Prospective participants (as defined at 15 CFR Part 26, Section 105) are subject to “Nonprocurement Debarment and Suspension” and the related section of the certification form prescribed above applies;

Grantees (as defined at 15 CFR Part 26, Section 605) are subject to 15 CFR Part 26, Subpart F, “Drug-Free Workplace Requirements (Grants)” and the related section of the certification form prescribed above applies;

Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

C. Any applicant that has paid or will pay for lobbying using any funds must submit an SF-LLL, “Disclosure of Lobbying Activities,” as required under 15 CFR part 28, Appendix B.

D. The implementing regulations of the National Environmental Policy Act (NEPA) require EDA to provide public notice of the availability of project specific environmental documents such as environmental impact statements, environmental assessments, findings of no significant impact, records of decision etc., to the affected public as specified in 40 CFR 1506.6(b).

Depending on the project location, environmental information concerning specific projects can be obtained from the Regional Environmental Officer in the appropriate EDA regional office listed at the end of this notice.

E. Recipients shall require applicants/bidders for subgrants, contracts, subcontracts, or other lower tier covered transactions at any tier under the award to submit, if applicable, a completed Form CD-511, “Certifications Regarding Debarment, Suspension, Ineligibility and Voluntary Exclusion-Lower Tier Covered Transactions and Lobbying'' and disclosure form, SF-LLL “Disclosure of Lobbying Activities.” Form CD-511 is intended for the use of recipients and should not be transmitted to DoC. SF-LLL submitted by any tier recipient or subrecipient should be submitted to DoC in accordance with the instructions contained in the award document.

F. No award of Federal funds will be made to an applicant who has an outstanding delinquent Federal debt until either:

1. The delinquent account is paid in full;

2. A negotiated repayment schedule is established and at least one payment is received; or

3. Other arrangements satisfactory to DoC are made.

G. Unsatisfactory performance under prior Federal awards may result in an application not being considered for funding.

H. Applicants should be aware that a false statement on the application is grounds for denial of the application or termination of the grant award and grounds for possible punishment by a fine or imprisonment as provided in 18 U.S.C. 1001.

I. Applicants are hereby notified that any equipment or products authorized to be purchased with funding provided under this program must be American-made to the maximum extent feasible.

J. Applicants seeking an early start, i.e., to begin a project before EDA approval, must obtain a letter from EDA allowing such early start. The letter allowing the early start will be null and void if the project is not subsequently approved for funding by the grants officer. Approval of an early start does not constitute project approval. Applicants should be aware that if they incur any costs prior to an award being made they do so solely at their own risk of not being reimbursed by the Government. Notwithstanding any verbal or written assurance that may have been received, there is no obligation on the part of DoC to cover preaward costs. Additionally, EDA also requires that compliance with environmental regulations, in accordance with the National Environmental Policy Act, be completed before construction begins.

K. If an application is selected for funding, EDA has no obligation to provide any additional future funding in connection with an award. Renewal of an award to increase funding or extend the period of performance is at the sole discretion of EDA.

L. Unless otherwise noted herein, eligibility, program objectives, application procedures, selection procedures, evaluation criteria and other requirements for all programs are set forth in EDA's regulations at 13 CFR Chapter III and 65 FR 2530, January 18, 2000.

M. EDA is not authorized to provide any financial assistance directly to individuals for the purpose of starting a new business or expanding an existing business.

This notice has been determined to be not significant for purposes of Executive Order 12866.

VIII. EDA Contact Information

Interested parties should contact the appropriate EDR or the regional office listed below:

William J. Day, Regional Director, Atlanta Regional Office, 401 West Peachtree Street, N.W., Suite 1820, Atlanta, Georgia 30308-3510, Telephone: (404) 730-3002, Internet Address: WDay1@doc.gov

Atlanta region | State covered
Patricia M. Dixon, Economic Development Representative, P.O. Box 1707, Lugoff, SC 29078; Telephone: (803) 408-2513; Internet Address: Pdixon@doc.gov | North Carolina (Eastern).

Paul M. Raetsch, Regional Director, Philadelphia Regional Office, Curtis Center—Suite 140 South, Independence Square West, Philadelphia, Pennsylvania 19106; Telephone: (215) 597-4603; Internet Address: Praetsch@doc.gov

Philadelphia region | State covered
Neal E. Noyes, Economic Development Representative, Federal Building, Room 474, 400 North 8th Street, P.O. Box 10229, Richmond, Virginia 23240-1001; Telephone: (804) 771-2061; Internet Address: Nnoyes@doc.gov | Virginia.
Edward Hummel, Economic Development Representative, Curtis Center—Suite 140 South, Independence Square West, Philadelphia, Pennsylvania 19106; Telephone: (215) 597-6767; Internet Address: Ehummel@doc.gov | New Jersey.

Pedro R. Garza, Regional Director, Austin Regional Office, 327 Congress Avenue, Suite 200, Austin, Texas 78701-4037; Telephone: (512) 381-8144; Fax: (512) 381-8177; Internet Address: pgarza1@doc.gov

C. Robert Sawyer, Regional Director, Chicago Regional Office, 111 North Canal Street, Suite 855, Chicago, Illinois 60606; Telephone: (312) 353-7706; Fax: (312) 353-8575; Internet Address: rsawyer@doc.gov

Anthony J. Preite, Regional Director, Denver Regional Office, 1244 Speer Boulevard, Room 670, Denver, Colorado 80204; Telephone: (303) 844-4715; Fax: (303) 844-3968; Internet Address: apreite@doc.gov

A. Leonard Smith, Regional Director, Seattle Regional Office, Jackson Federal Building, Room 1856, 915 Second Avenue, Seattle, Washington 98174; Telephone: (206) 220-7660; Fax: (206) 220-7669; Internet Address: LSmith7@doc.gov

Dated: November 17, 2000.
Arthur C. Campbell,
Assistant Secretary, for Economic Development.

[FR Doc. 00-29958 Filed 11-22-00; 8:45 am]

BILLING CODE 3410-24-P